DEPARTMENT OF DEFENSE

Office of the Secretary

[Docket ID DoD-2012-OS-0037]

Submission for OMB Review; Comment Request

ACTION: Notice.

The Department of Defense has submitted to OMB for clearance, the following proposal for collection of information under the provisions of the Paperwork Reduction Act (44 U.S.C. Chapter 35).

DATES: Consideration will be given to all comments received by January 4, 2013.

Title, Form, and OMB Number: The Application of Child Care Services Form, DLA Form 1854; OMB Control Number 0704-TBD.

Type of Request: New.

Number of Respondents: 30.

Responses per Respondent: 1.

Annual Responses: 30.

Average Burden per Response: 0.33 hours (20 minutes).

Annual Burden Hours: 10 hours.

Needs and Uses: The Application of Child Care Services Form, DLA Form 1854, is used to request child care services provided by DLA managed facilities. Enrollee records are provided to the Child and Youth Programs Coordinator, the CDP Director, and the Headquarters DLA Inspection Team upon request for the purpose of ensuring safe and effective services.

Waiting List Applicant records include the names of the sponsor and spouse (when applicable); home and electronic mail addresses; work, home, cell telephone numbers; place of employment; rank or civilian pay grade; child's name and birth date; documentation of any special needs or health concerns regarding the child, to include documentation of food restrictions; physical abilities and limitations; physical, emotional, or other special care requirements (including restrictions or special precautions concerning diet); special services Individual Development Plans (IDP) when special needs have already been diagnosed.

Enrollee records include all items listed above plus names and phone numbers of emergency points of contact; medical, dental and insurance provider data; medical examination reports, health assessments and screening results; immunization, allergy and medication information; documentation of Special Needs Resource Team (SNRT) meetings (when applicable) as well as serious event/incident report forms; symptoms records; and other records used to provide effective services.

Affected Public: Individuals or households.

Frequency: On occasion.

Respondent's Obligation: Required to obtain or retain benefits.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 4800 Mark Center Drive, East Tower, Suite 02G09, Alexandria, VA 22350-3100.

Dated: November 21, 2012.
Aaron Siegel,
Alternate OSD Federal Register Liaison Officer, Department of Defense.

[FR Doc. 2012-29340 Filed 12-4-12; 8:45 am]

BILLING CODE 5001-06-P